DEPARTMENT OF ENERGY

Federal Energy Regulatory Commission

[Docket No. EC03-139-000, et al.]

Enron Power Marketing, Inc., et al.; Electric Rate and Corporate Filings

October 2, 2003.

The following filings have been made with the Commission. The filings are listed in ascending order within each docket classification.

1. Enron Power Marketing, Inc. and Peaker LLC

[Docket No. EC03-139-000]

Take notice that on September 26, 2003, Enron Power Marketing, Inc. (EPMI) and Peaker LLC (Peaker) (collectively Applicants) filed with the Federal Energy Regulatory Commission an application pursuant to section 203 of the Federal Power Act seeking authorization for the disposition of jurisdictional assets relating to the transfer from EPMI to Peaker of its interests in two long-term electric capacity purchase and sale contracts between, respectively: (1) EPMI and Spokane Energy, LLC; and (2) EPMI and Avista Corp. The Applicants requested that the Commission grant the authorizations to allow the Transfer to take place by November 15, 2003. Applicants have request confidential treatment of Exhibits G and I of the application.

Comment Date: October 17, 2003.

2. High Desert Power Project, LLC

[Docket No. EG03-109-000]

On September 26, 2003 High Desert Power Project, LLC (High Desert) filed with the Federal Energy Regulatory Commission an application for redetermination of exempt wholesale generator status pursuant to part 365 of the Commission's regulations.

Comment Date: October 23, 2003.

3. High Desert Power Trust

[Docket No. EG03-110-000]

On September 26, 2003 High Desert Power Trust (Trust), filed with the Federal Energy Regulatory Commission an application for redetermination of exempt wholesale generator status pursuant to part 365 of the Commission's regulations.

Comment Date: October 23, 2003.

4. Tractebel Energy Marketing, Inc.; Trigen-Syracuse Energy Corporation

[Docket Nos. ER94-142-027 and ER00-2603-001]

Take notice that on September 29, 2003, Tractebel Energy Marketing, Inc. and Trigen-Syracuse Energy Corporation submitted their triennial market power analyses pursuant to Commission Orders in Docket No. ER94-142-000 dated January 7, 1994 and Docket No. ER00-2603-000 dated June 22, 2003.

Comment Date: October 20, 2003.

5. The Cincinnati Gas & Electric Company; Covert Generating Company, LLC

[Docket Nos. ER96-2504-006 and ER01-520-005]

Take notice that on September 15, 2003, The Cincinnati Gas & Electric Company (CG&E) and Covert Generating Company, LLC (Covert), submitted a filing of a non-material change in the characteristics that the Commission relied upon in granting CG&E and Covert market-based rate authorization under section 205 of the Federal Power Act.

Comment Date: October 14, 2003.

6. NewCorp Resources Electric Cooperative, Inc.

[Docket No. ER03-1116-001]

Take notice that on September 29, 2003, NewCorp Resources Electric Cooperative, Inc. (NewCorp) pursuant to section 205 of the Federal Power Act and Part 35 of the Commission's regulations, submitted a compliance filing pursuant to the Commission's Letter order issued August 29, 2003 in Docket No. ER03-116-000.

Comment Date: October 20, 2003.

7. Palama, LLC

[Docket No. ER03-1316-000]

Take notice that on September 9, 2003, Palama, LLC (Palama) petitioned the Commission for acceptance of Palama FERC Rate Schedule No.1; the granting of certain blanket approvals, including the authority to sell electricity at market-based rates; and the waiver of certain Commission regulations. Palama states that it intends to engage in wholesale electric power and energy purchases and sales as a marketer.

Comment Date: October 14, 2003.

8. ECONnergy PA, Inc.

[Docket No. ER03-1336-000]

Take notice that on September 15, 2003, ECONnergy PA, Inc. submitted for filing a Notice of Cancellation of their Market-Based Rate Authority. ECONnergy PA, Inc. requests that the cancellation be made effective immediately.

Comment Date: October 16, 2003.

9. Troy Energy, LLC

[Docket No. ER03-1396-000]

Take notice that on September 29, 2003, Troy Energy, LLC (Troy) tendered for filing a rate schedule pursuant to which Troy will provide Reactive Power and Voltage Control from Generation Sources Service to American Transmission Systems, Inc. Troy requests an effective date of October 1, 2003.

Troy states that a copy of the filing was served upon the American Transmission Systems, Inc.

Comment Date: October 20, 2003.

10. Midwest Independent Transmission System Operator, Inc.

[Docket No. ER03-1397-000]

Take notice that on September 29, 2003, the Midwest Independent Transmission System Operator, Inc. (Midwest ISO) pursuant to section 205 of the Federal Power Act and § 35.12 of the Commission's regulations, submitted for filing an Interconnection and Operating Agreement among Coggon Municipal Light Plant Board, Midwest ISO, and Interstate Power and Light Company, a wholly-owned subsidiary of Alliant Energy.

Midwest ISO states that a copy of this filing was served on Coggon Municipal Light Plant Board and Interstate Power and Light Company.

Comment Date: October 20, 2003.

11. South Carolina Electric & Gas Company

[Docket No. ER03-1398-000]

Take notice that on September 29, 2003, South Carolina Electric & Gas Company (SCE&G) filed with the Federal Energy Regulatory Commission several documents constituting the agreement between SCE&G and Columbia Energy LLC (Columbia Energy) regarding the interconnection of the Columbia Energy facilities located at Columbia, SC, with the SCE&G transmission system, including an executed Operating Agreement for Interconnected Generation Between Columbia Energy, LLC (Columbia Energy) and SCE&G and an executed Construction & Maintenance Agreement for Interconnection Facilities Between Columbia Energy and SCE&G. SCE&G has requested an effective date of November 15, 2003.

Comment Date: October 20, 2003.

12. MidAmerican Energy Company

[Docket No. ER03-1399-000]

Take notice that on September 29, 2003, MidAmerican Energy Company (MidAmerican), filed with the Commission an amended Interconnection Agreement.

MidAmerican requests an effective date of January 10, 2003 for the agreement and seeks a waiver of the Commission's 60-day notice requirement. MidAmerican states it has served a copy of the filing on the Iowa Utilities Board, the Illinois Commerce Commission, the South Dakota Public Utilities Commission and Interstate Power and Light Company.

Comment Date: October 20, 2003.

13. Duke Energy Corporation

[Docket No. ER03-1400-000]

Take notice that on September 29, 2003, Duke Energy Corporation, on behalf of Duke Electric Transmission, (collectively, Duke) tendered for filing a revised Service Agreement for Network Integration Transmission Service (NITSA) between Duke and New Horizon Electric Membership Cooperative, Inc. Duke seeks an effective date for the revised NITSA of September 1, 2003.

Comment Date: October 20, 2003.

14. Sempra Energy Trading Corp.

[Docket No. ER03-1413-000]

Take notice that on September 26, 2003, Sempra Energy Trading Corp (SET) filed a notice of change in status, election to file triennial updates, and a revised rate schedule.

Comment Date: October 17, 2003.

15. Midwest Independent Transmission System Operator, Inc.

[Docket No. ES03-62-000]

Take notice that on September 30, 2003, the Midwest Independent Transmission System Operator, Inc. (Midwest ISO) submitted an application pursuant to section 204 of the Federal Power Act seeking authorization to make no more than $105 million of short-term borrowings under a line of credit agreement.

The Midwest ISO also requests a waiver from the Commission's competitive bidding and negotiated placement requirements at 18 CFR 34.2.

Comment Date: October 16, 2003.

16. Archer-Daniels-Midland Company

[Docket No. QF89-234-001]

Take notice that on September 17, 2003, Archer-Daniels-Midland Company (Archer-Daniels) filed with the Commission an application for recertification of a facility as a qualifying cogeneration facility pursuant to section 292.207(b) of the Commission's regulations. No determination has been made that the submittal constitute a complete filing.

Archer-Daniels states that the facility has a nameplate rating of approximately 260 MW and is located in Cedar Rapids, Iowa. Archer-Daniels also states the facility is interconnected with IES Utilities, Inc (IES). Archer-Daniels further states it may sell electric energy to IES or other third-parties. IES provides backup power and maintenance power and that IES may provide supplementary power and interruptible power to the facility.

Comment Date: October 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00042 Filed 10-14-03; 8:45 am]

BILLING CODE 6717-01-P